DEPARTMENT OF THE INTERIOR

U.S. Geological Survey

[USGS-GX12LR000F60100]

Agency Information Collection Activities: Comment Request for the Mine, Development, and Mineral Exploration Supplement (1 Form)

AGENCY: U.S. Geological Survey (USGS), Interior.

ACTION: Notice of an extension of a currently approved information collection (1028-0060).

SUMMARY: We (the USGS) will ask the Office of Management and Budget (OMB) to approve the information collection (IC) described below. This collection consists of 1 form. As required by the Paperwork Reduction Act (PRA) of 1995, and as part of our continuing efforts to reduce paperwork and respondent burden, we invite the general public and other Federal agencies to take this opportunity to comment on this IC. This collection is scheduled to expire on March 31, 2013.

DATES: To ensure that your comments on this IC are considered, we must receive them on or before November 16, 2012.

ADDRESSES: Please submit a copy of your comments to the Information Collection Clearance Officer, U.S. Geological Survey, 12201 Sunrise Valley Drive, Mail Stop 807, Reston, VA 20192 (mail); 703-648-7199 (fax); or smbaloch@usgs.gov (email). Reference Information Collection 1028-0060 in the subject line.

FOR FURTHER INFORMATION CONTACT: Shonta E. Osborne at 703-648-7960 (telephone); sosborne@usgs.gov (email); or by mail at U.S. Geological Survey, 985 National Center, 12201 Sunrise Valley Drive, Reston, VA 20192.

SUPPLEMENTARY INFORMATION:

I. Abstract

Respondents will use this form to supply the USGS with domestic production, exploration, and mine development data for nonfuel mineral commodities. This information will be published as an Annual Report for use by Government agencies, industry, academia, and the general public.

II. Data

OMB Control Number: 1028-0060.

Form Number: 9-4000-A.

Title: Mine, Development, and Mineral Exploration Supplement.

Type of Request: Extension of a currently approved collection.

Affected Public: Private sector: U.S. nonfuel minerals producers and exploration operations; Public sector: State and local governments.

Respondent Obligation: Voluntary.

Frequency of Collection: Annually.

Estimated Number of Annual Responses: 887.

Annual Burden Hours: 665 hours. We expect to receive 887 annual responses. We estimate an average of 45 minutes per response.

Estimated Reporting and Recordkeeping “Non-Hour Cost” Burden: We have not identified any “non-hour cost” burdens associated with this collection of information.

Public Disclosure Statement: The PRA (44 U.S.C. 3501, et seq.) provides that an agency may not conduct or sponsor a collection of information unless it displays a currently valid OMB control number and current expiration date.

III. Request for Comments

Comments: We are soliciting comments as to: (a) Whether the proposed collection of information is necessary for the agency to perform its duties, including whether the information is useful; (b) the accuracy of the agency's estimate of the burden of the proposed collection of information; (c) how to enhance the quality, usefulness, and clarity of the information to be collected; and (d) how to minimize the burden on the respondents, including the use of automated collection techniques or other forms of information technology. Please note that the comments submitted in response to this notice are a matter of public record. Before including your address, phone number, email address, or other personal identifying information in your comment, you should be aware that your entire comment, including your personal identifying information, may be made publicly available at any time. While you can ask us in your comment to withhold your personal identifying information from public review, we cannot guarantee we will be able to do so.

Dated: September 6, 2012.
John H. DeYoung, Jr.,
Director, National Minerals Information Center.

[FR Doc. 2012-22744 Filed 9-14-12; 8:45 am]

BILLING CODE 4311-AM-P